DEPARTMENT OF TRANSPORTATION

Federal Aviation Administration

14 CFR Part 39

[Docket No. FAA-2018-0797; Product Identifier 2018-NM-096-AD]

RIN 2120-AA64

Airworthiness Directives; Saab AB, Saab Aeronautics (Formerly Known as Saab AB, Saab Aerosystems) Airplanes

AGENCY: Federal Aviation Administration (FAA), DOT.

ACTION: Notice of proposed rulemaking (NPRM).

SUMMARY: We propose to supersede Airworthiness Directive (AD) 2018-11-07, which applies to all Saab AB, Saab Aeronautics Model SAAB 2000 airplanes. AD 2018-11-07 requires a one-time inspection of an affected lug attaching the aileron bellcrank support bracket to the rear spar of the wing and the adjacent area of the installed support brackets, a thickness measurement of the affected lug, repetitive inspections of the affected aileron bellcrank support brackets, and corrective actions if necessary. AD 2018-11-07 also provided an optional terminating action for the repetitive inspections. Since we issued AD 2018-11-07, we have determined that it is necessary to require the terminating action. This proposed AD would retain the actions of AD 2018-11-07 and require the terminating action for the repetitive inspections. We are proposing this AD to address the unsafe condition on these products.

DATES: We must receive comments on this proposed AD by November 5, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Saab AB, Saab Aeronautics, SE-581 88, Linköping, Sweden; telephone +46 13 18 5591; fax +46 13 18 4874; email saab2000.techsupport@saabgroup.com; internet http://www.saabgroup.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0797; or in person at Docket Operations between 9 a.m. and 5 p.m., Monday through Friday, except Federal holidays. The AD docket contains this NPRM, the regulatory evaluation, any comments received, and other information. The street address for Docket Operations (phone 800-647-5527) is in the ADDRESSES section. Comments will be available in the AD docket shortly after receipt.

FOR FURTHER INFORMATION CONTACT: Shahram Daneshmandi, Aerospace Engineer, International Section, Transport Standards Branch, FAA, 2200 South 216th St., Des Moines, WA 98198; telephone and fax 206-231-3220.

SUPPLEMENTARY INFORMATION:

Comments Invited

We invite you to send any written relevant data, views, or arguments about this proposal. Send your comments to an address listed under the ADDRESSES section. Include “Docket No. FAA-2018-0797; Product Identifier 2018-NM-096-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2018-11-07, Amendment 39-19295 (83 FR 24399, May 29, 2018) (“AD 2018-11-07”), for all Saab AB, Saab Aeronautics Model SAAB 2000 airplanes. AD 2018-11-07 requires a one-time inspection of the affected lug attaching the aileron bellcrank support bracket to the rear spar of the wing and the adjacent area of the installed aileron bellcrank support brackets, a thickness measurement of the affected lug attaching the support bracket to the rear spar of the wing, repetitive inspections of the affected aileron bellcrank support brackets, and corrective actions if necessary. AD 2018-11-07 also provides an optional terminating action for the repetitive inspections. AD 2018-11-07 resulted from the identification of a manufacturing defect on certain aileron bellcrank support brackets that resulted in the material thickness of the affected lug attaching the support bracket to the rear spar of the wing to be insufficient. We issued AD 2018-11-07 to detect and correct the defect of the aileron bellcrank support bracket, which, in the event of an aileron jam, could lead to failure of the support bracket and result in reduced controllability of the airplane.

Actions Since AD 2018-11-07 Was Issued

In the preamble of AD 2018-11-07, we stated that we were considering further rulemaking to require the replacement of all affected support brackets. The planned compliance time for the support bracket replacements allowed adequate time for notice and opportunity for public comment on the merits of the replacement. Therefore, the requirement for the replacement was not included in AD 2018-11-07. We have now determined that further rulemaking is necessary to include this requirement.

Related Service Information Under 1 CFR Part 51

Saab AB, Saab Aeronautics has issued Saab Service Bulletin 2000-27-056, dated April 18, 2018. This service information describes procedures for a detailed visual inspection for cracks, corrosion, and damage (including missing paint) of the affected lug and the adjacent area of the installed aileron bellcrank support brackets on the left-hand and right-hand wings; a thickness measurement of the affected lug attaching the support bracket to the rear spar of the wing; and replacement of aileron bellcrank support brackets. This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would retain the requirements of AD 2018-11-07, and change the optional terminating action into a requirement. This proposed AD would require accomplishing the actions specified in the service information described previously. This proposed AD would remove the requirement to send the inspection results to the manufacturer.

Differences Between This Proposed AD and the MCAI or Service Information

Where the MCAI specifies to submit an inspection report, this proposed AD would not require reporting.

Costs of Compliance

We estimate that this proposed AD affects 8 airplanes of U.S. registry. We estimate the following costs to comply with this proposed AD:

Estimated Costs
Labor cost | Parts cost | Cost per product | Cost on U.S. operators
Up to 19 work-hours × $85 per hour = $1,615 | Up to $18,074 | Up to $19,689 | Up to $157,512.

We have received no definitive data for the on-condition costs specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-11-07, Amendment 39-19295 (83 FR 24399, May 29, 2018), and adding the following new AD:

Saab AB, Saab Aeronautics (Formerly Known as Saab AB, Saab Aerosystems): Docket No. FAA-2018-0797; Product Identifier 2018-NM-096-AD.

(a) Comments Due Date

We must receive comments by November 5, 2018.

(b) Affected ADs

This AD replaces AD 2018-11-07, Amendment 39-19295 (83 FR 24399, May 29, 2018) (“AD 2018-11-07”).

(c) Applicability

This AD applies to Saab AB, Saab Aeronautics (formerly known as Saab AB, Saab Aerosystems) Model SAAB 2000 airplanes, certificated in any category, all manufacturer serial numbers.

(d) Subject

Air Transport Association (ATA) of America Code 27, Flight controls.

(e) Reason

This AD was prompted by the identification of a manufacturing defect on certain aileron bellcrank support brackets that resulted in insufficient material thickness of the affected lug attaching the support bracket to the rear spar of the wing. We are issuing this AD to detect and correct a defect of the aileron bellcrank support bracket, which, in the event of an aileron jam, could lead to failure of the support bracket and result in reduced controllability of the airplane.

(f) Compliance

Comply with this AD within the compliance times specified, unless already done.

(g) Retained Definitions, With No Changes

(1) This paragraph restates the definition specified in paragraph (g)(1) of AD 2018-11-07, with no changes. For the purposes of this AD, affected support brackets are aileron bellcrank support brackets, part number (P/N) 7327993-813 and P/N 7327993-814, for which it has been determined that the affected lug attaching the support bracket to the rear spar of the wing has a thickness of less than 2.75 mm (0.108 in.), as specified in Saab Service Bulletin 2000-27-056, dated April 18, 2018.

(2) This paragraph restates the definition specified in paragraph (g)(2) of AD 2018-11-07, with no changes. For the purposes of this AD, serviceable support brackets are aileron bellcrank support brackets, P/N 7327993-813 and P/N 7327993-814, for which it has been determined that the affected lug attaching the support bracket to the rear spar of the wing has a thickness of 2.75 mm (0.108 in.) or more, as specified in Saab Service Bulletin 2000-27-056, dated April 18, 2018.

(h) Retained One-Time Inspection, With No Changes

This paragraph restates the requirements of paragraph (h) of AD 2018-11-07, with no changes. Within 100 flight cycles or 30 days, whichever occurs first after June 13, 2018 (the effective date of AD 2018-11-07), accomplish a detailed visual inspection for cracks, corrosion, and damage (including missing paint) of the affected lug and the adjacent area of the aileron bellcrank support brackets installed on the left-hand (LH) and right-hand (RH) wings, and measure the thickness of the affected lug attaching the aileron bellcrank support bracket to the rear spar of the wing, in accordance with the Accomplishment Instructions of Saab Service Bulletin 2000-27-056, dated April 18, 2018.

(i) Retained Repetitive Inspections, With No Changes

This paragraph restates the requirements of paragraph (i) of AD 2018-11-07, with no changes. If, during the measurement required by paragraph (h) of this AD, it is determined that the affected lug attaching the aileron bellcrank support bracket to the rear spar of the wing has a thickness of less than 2.75 mm (0.108 in.), at intervals not to exceed 100 flight cycles, accomplish a detailed visual inspection for cracks, corrosion, and damage (including missing paint) of that affected support bracket in accordance with the Accomplishment Instructions of Saab Service Bulletin 2000-27-056, dated April 18, 2018. Accomplishing the replacement specified in paragraph (l) of this AD terminates the repetitive inspections required by this paragraph for that bracket.

(j) Retained Corrective Actions, With No Changes

This paragraph restates the requirements of paragraph (j) of AD 2018-11-07, with no changes. If, during any inspection required by paragraph (h) or (i) of this AD, any crack, corrosion, or damage (including missing paint) is found, before further flight, obtain corrective actions instructions approved by the Manager, International Section, Transport Standards Branch, FAA; or the European Aviation Safety Agency (EASA); or Saab AB, Saab Aeronautics' EASA Design Organization Approval (DOA). If approved by the DOA, the approval must include the DOA-authorized signature. Accomplish the corrective actions within the compliance time specified therein. If no compliance time is specified in the corrective actions instructions, accomplish the corrective action before further flight.

(k) Retained Parts Installation Limitation, With No Changes

This paragraph restates the requirements of paragraph (m) of AD 2018-11-07, with no changes. As of June 13, 2018 (the effective date of AD 2018-11-07), it is allowed to install on any airplane an aileron bellcrank support bracket P/N 7327993-813 or P/N 7327993-814, provided it is a serviceable support bracket.

(l) New Requirement of This AD: Replacement

Within 6 months after the effective date of this AD, replace each affected support bracket with a serviceable support bracket, in accordance with the Accomplishment Instructions of Saab Service Bulletin 2000-27-056, dated April 18, 2018. Replacing each affected support bracket terminates the inspections required by paragraph (i) of this AD for that airplane.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2018-11-07, are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Saab AB, Saab Aeronautics' EASA Design Organization Approval (DOA). If approved by the DOA, the approval must include the DOA-authorized signature.

(n) Related Information

(1) Refer to Mandatory Continuing Airworthiness Information (MCAI) EASA Airworthiness Directive 2018-0103, dated April 30, 2018, for related information. This MCAI may be found in the AD docket on the internet at http://www.regulations.gov by searching for and locating Docket No. FAA-2018-0797.

(2) For more information about this AD, contact Shahram Daneshmandi, Aerospace Engineer, International Section, Transport Standards Branch, FAA, 2200 South 216th St., Des Moines, WA 98198; telephone and fax 206-231-3220.

(3) For service information identified in this AD, contact Saab AB, Saab Aeronautics, SE-581 88, Linköping, Sweden; telephone +46 13 18 5591; fax +46 13 18 4874; email saab2000.techsupport@saabgroup.com; internet http://www.saabgroup.com. You may view this service information at the FAA, Transport Standards Branch, 2200 South 216th St., Des Moines, WA. For information on the availability of this material at the FAA, call 206-231-3195.

Issued in Des Moines, Washington, on September 10, 2018.
Michael Kaszycki,
Acting Director, System Oversight Division, Aircraft Certification Service.

[FR Doc. 2018-20106 Filed 9-18-18; 8:45 am]

BILLING CODE 4910-13-P